DEPARTMENT OF ENERGY

Federal Energy Regulatory Commission

Combined Notice of Filings #1

Take notice that the Commission received the following electric rate filings:

Docket Numbers: ER10-3069-002; ER10-3070-002.

Applicants: Alcoa Power Generating Inc.

Description: Alcoa Power Generating Inc. and Alcoa Power Marketing LLC submit Supplement to their October 11, 2011 Market-Based Tariff Revisions.

Filed Date: 10/13/2011.

Accession Number: 20111013-5120.

Comment Date: 5 p.m. Eastern Time on Thursday, November 03, 2011.

Docket Numbers: ER11-4027-001; ER11-4028-001

Applicants: James River Genco, LLC, Portsmouth Genco, LLC.

Description: Notice of Non-Material Change in Status of James River Genco, LLC, et al.

Filed Date: 10/24/2011.

Accession Number: 20111024-5134.

Comment Date: 5 p.m. Eastern Time on Monday, November 14, 2011.

Docket Numbers: ER11-4428-001.

Applicants: Minco Wind II, LLC.

Description: Minco Wind II, LLC submits tariff filing per 35.17(b): Minco Wind II, LLC Amendment to MBR Application and Revision to Tariff to be effective 9/30/2011.

Filed Date: 10/24/2011.

Accession Number: 20111024-5106.

Comment Date: 5 p.m. Eastern Time on Monday, November 14, 2011.

Docket Numbers: ER12-186-000.

Applicants: PNE Energy Supply, LLC.

Description: PNE Energy Supply, LLC submits tariff filing per 35.12: Application for MBR Rates to be effective 11/30/2011.

Filed Date: 10/25/2011.

Accession Number: 20111025-5036.

Comment Date: 5 p.m. Eastern Time on Tuesday, November 15, 2011.

Docket Numbers: ER12-187-000.

Applicants: Public Service Company of Colorado.

Description: Public Service Company of Colorado submits tariff filing per 35.13(a)(2)(iii: 2011-10-25_Remove-WECC-RMS-Criteria to be effective 10/26/2011.

Filed Date: 10/25/2011.

Accession Number: 20111025-5075.

Comment Date: 5 p.m. Eastern Time on Tuesday, November 15, 2011.

Docket Numbers: ER12-188-000.

Applicants: Midwest Independent Transmission System Operator, Inc.

Description: Midwest Independent Transmission System Operator, Inc. submits tariff filing per 35.13(a)(2)(iii: J183 GIA to be effective 10/26/2011.

Filed Date: 10/25/2011.

Accession Number: 20111025-5081.

Comment Date: 5 p.m. Eastern Time on Tuesday, November 15, 2011.

Docket Numbers: ER12-189-000.

Applicants: ISO New England Inc.

Description: ISO New England 2012 Capital Budget Filing.

Filed Date: 10/25/2011.

Accession Number: 20111025-5096.

Comment Date: 5 p.m. Eastern Time on Tuesday, November 15, 2011.

Docket Numbers: ER12-190-000.

Applicants: Arizona Public Service Company.

Description: Arizona Public Service Company submits tariff filing per 35.13(a)(2)(iii: Compliance filing to include accepted depreciation rate in the APS OATT to be effective 10/1/2011.

Filed Date: 10/25/2011.

Accession Number: 20111025-5111.

Comment Date: 5 p.m. Eastern Time on Tuesday, November 15, 2011.

Take notice that the Commission received the following land acquisition reports:

Docket Numbers: LA11-3-000.

Applicants: Virginia Electric and Power Company, Dominion Energy Marketing, Inc., Dominion Nuclear Connecticut, Inc., Dominion Energy Kewaunee, Inc., Dominion Energy Brayton Point, Inc., Dominion Energy Manchester Street, Inc., Dominion Energy new England, Inc., Dominion Energy Salem Harbor, LLC, Dominion Retail, Inc., Elwood Energy, LLC, Fairless Energy, LLC, NedPower Mt. Storm, LLC, Kincaid Generation, LLC, State Line Energy, LLC, Fowler Ridge Wind Farm, LLC .

Description: Quarterly Land Acquisition Report of Dominion Resources Services, Inc.

Filed Date: 10/25/2011.

Accession Number: 20111025-5107.

Comment Date: 5 p.m. Eastern Time on Tuesday, November 15, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 25, 2011.
Nathaniel J. Davis, Sr.,
Deputy Secretary.

[FR Doc. 2011-28872 Filed 11-7-11; 8:45 am]

BILLING CODE 6717-01-P